DEPARTMENT OF ENERGY

Federal Energy Regulatory Commission

[Docket No. RP03-595-000]

Northern Border Pipeline Company; Notice of Proposed Changes in FERC Gas Tariff

September 5, 2003.

Take notice that on September 2, 2003, Northern Border Pipeline Company (Northern Border) tendered for filing to become part of Northern Border Pipeline Company's FERC Gas Tariff, First Revised Volume No. 1, Third Revised Sheet Number 99, to become effective October 1, 2003.

Northern Border states it proposes to make a housekeeping change to update the effective dates of the Annual Charge Adjustment (ACA) reflected in its tariff. Northern Border explains that there is no change to the ACA rate.

Northern Border states that copies of this filing have been sent to all of Northern Border's contracted shippers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary* (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 15, 2003.

Magalie R. Salas,
Secretary.

[FR Doc. 03-23385 Filed 9-12-03; 8:45 am]

BILLING CODE 6717-01-P